GENERAL SERVICES ADMINISTRATION

[FMR Bulletin PBS-2010-B5; Docket 2010-0005; Sequence 12]

Federal Management Regulation; FMR Bulletin PBS-2010-B5; Redesignations of Federal Buildings

AGENCY: Public Buildings Service (P), General Services Administration.

ACTION: Notice of a bulletin.

SUMMARY: The attached bulletin announces the designation and redesignation of two Federal buildings.

DATES: Expiration Date: This bulletin announcement expires April 30, 2011. The building designation and redesignation remains in effect until canceled or superseded by another bulletin.

FOR FURTHER INFORMATION CONTACT: U.S. General Services Administration, Public Buildings Service (P), Attn: David E. Foley, 1800 F Street, NW., Washington, DC 20405, e-mail at david.foley@gsa.gov. (202) 501-1100.

Dated: October 27, 2010.
Martha Johnson,
Administrator of General Services.

U.S. GENERAL SERVICES ADMINISTRATION

REDESIGNATIONS OF FEDERAL BUILDINGS

TO: Heads of Federal Agencies

SUBJECT: Redesignations of Federal Buildings

1. What is the purpose of this bulletin? This bulletin announces the designation and redesignation of two Federal buildings.

2. When does this bulletin expire? This bulletin announcement expires April 30, 2011. The building designation and redesignation remains in effect until canceled or superseded by another bulletin.

3. Designation. The name of the designated building (annex building under construction for the Elbert P. Tuttle United States Court of Appeals Building in Atlanta, Georgia) is as follows: John C. Godbold Federal Building 96 Poplar Street Atlanta, GA 30303

4. Redesignation. The former and new name of the redesignated building is as follows: Former Name Federal Building 1220 Echelon Parkway Jackson, MS 39213 New Name James Chaney, Andrew Goodman, Michael Schwerner, and Roy K. Moore Federal Building 1220 Echelon Parkway Jackson, MS 39213

5. Who should we contact for further information regarding designation and redesignation of these Federal buildings? U.S. General Services Administration, Public Buildings Service (P), Attn: David E. Foley, 1800 F Street, NW, Washington, DC 20405, telephone number: (202) 501-1100, e-mail at david.foley@gsa.gov. Dated: October 27, 2010

Martha Johnson,
Administrator of General Services.

[FR Doc. 2010-28378 Filed 11-9-10; 8:45 am]

BILLING CODE 6820-23-P